FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Acting Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) | Communities affected
KANSAS
FEMA Docket No. (B-7414)
Tomahawk Creek:
Approximately 3,500 feet upstream of confluence with Indian Creek Creek Approximately 1,600 feet downstream of Roe Avenue Just downstream of Pflumm Road Approximately 4,800 feet upstream of a Pflumm Road | *850 *866 *1,007 | Johnson County (Uninc. Areas), City of Leawood, City of Overland Park, City of Olathe.
Towahawk Creek Tributary No. 2:
At confluence with Tomahawk Creek Approximately 1,200 feet upstream of confluence with Towahawk Creek | *853 *859 | Johnson County (Uninc. Areas), City of Leawood.
Tomahawk Creek Tributary No. 3:
At confluence with Tomahawk Creek Approximately 1,300 feet upstream of confluence with Tomahawk Creek | *859 *860 | Johnson County (Uninc. Areas), City of Leawood.
Tomahawk Creek Tributary No. 4:
At confluence with Tomahawk Creek Approximately 1,500 feet upstream of confluence with Tomahawk Creek | *864 *866 | Johnson County (Uninc. Areas), City of Leawood.
Tomahawk Creek Tributary No. 5:
At confluence with Tomahawk Creek Approximately 1,200 feet upstream of confluence with Tomahawk Creek | *872 *874 | Johnson County (Uninc. Areas), City of Leawood.
Tomahawk Creek Tributary No. 6:
At confluence with Tomahawk Creek Approximately 1,850 feet upstream of confluence with Tomahawk Creek | *872 *881 | Johnson County (Uninc. Areas), City of Overland Park.
Tomahawk Creek Tributary No. 7:
At confluence with Tomahawk Creek Just downstream of Metcalf Avenue | *881 *929 | Johnson County (Uninc. Areas), City of Overland Park.
Tomahawk Creek Tributary No. 8:
At confluence with Tomahawk Creek Approximately 1,000 feet upstream of confluence with Tomahawk Creek | *885 *888 | Johnson County (Uninc. Areas), City of Overland Park.
Tomahawk Creek Tributary No. 9:
At confluence with Tomahawk Creek Approximately 1,360 feet upstream of Tomahawk Creek | *890 900 | Johnson County (Uninc. Areas), City of Overland Park.
Tomahawk Creek Tributary No. 10:
At confluence with Tomahawk Creek Approximately 1,100 feet upstream of Foster Street | *900 *935 | Johnson County (Uninc. Areas), City of Overland Park.
Tomahawk Creek Tributary No. 11:
At confluence with Tomahawk Creek Approximately 1,380 feet upstream of confluence with Tomahawk Creek | *906 *912 | Johnson County (Uninc. Areas), City of Overland Park.
Tomahawk Creek Tributary No. 12:
At confluence with Tomahawk Creek Approximately 4,700 feet upstream of Antioch Road | *912 *955 | Johnson County (Uninc. Areas), City of Overland Park.
Tomahawk Creek Tributary No. 12B1:
At confluence with Tomahawk Creek Tributary No. 12 Approximately 2,450 feet upstream of confluence with Tomahawk Creek | *920 *938 | Johnson County (Uninc. Areas), City of Overland Park.
Tomahawk Creek Tributary No. 13:
At confluence with Tomahawk Creek Approximately 900 feet upstream of 148th Street | *929 *984 | Johnson County (Uninc. Areas), City of Overland Park.
Tomahawk Creek Tributary No. 13B1:
At confluence with Tomahawk Creek Tributary No. 13 Just downstream of Antioch Road | *935 *935 | Johnson County (Uninc. Areas), City of Overland Park.
Tomahawk Creek Tributary No. 13E1:
At confluence with Tomahawk Creek Tributary No. 13 Approximately 500 feet upstream of Switzer Road | *964 *978 | Johnson County (Uninc. Areas), City of Overland Park.
Tomahawk Creek Tributary No. 13F1:
At confluence with Tomahawk Creek Tributary No. 13 Approximately 1,100 feet upstream of confluence with Tomahawk Creek Tributary No. 13 | *979 *989 | Johnson County (Uninc. Areas), City of Overland Park.
Tomahawk Creek Tributary No. 17:
At confluence with Tomahawk Creek Approximately 610 feet upstream of confluence with Tomahawk Creek | *977 *981 | Johnson County (Uninc. Areas), City of Overland Park.
Tomahawk Creek Tributary No. 18:
At confluence with Tomahawk Creek Approximately 1,100 feet downstream of 143rd Street | *989 *997 | Johnson County (Uninc. Areas), City of Overland Park.
Tomahawk Creek Tributary No. 19:
At confluence with Tomahawk Creek Approximately 630 feet upstream of confluence with Tomahawk Creek | *1,000 *1,003 | Johnson County (Uninc. Areas), City of Overland Park.
Tomahawk Creek Tributary No. 20:
At confluence with Tomahawk Creek Approximately 300 feet upstream of confluence with Tomahawk Creek | *1,011 *1,011 | Johnson County (Uninc. Areas), City of Overland Park, City of Olathe.
Tomahawk Creek Tributary No. 21:
At confluence with Tomahawk Creek Approximately 760 feet upstream of confluence with Tomahawk Creek | *1,012 *1,014 | Johnson County (Uninc. Areas), City of Overland Park, City of Olathe.
ADDRESSES:
Johnson County (Unincorporated Areas): Maps are available for inspection at the Department of Planning, Development and Codes, 111 South Cherry, Suite 3500, Olathe, Kansas.
City of Leawood: Maps are available for inspection at the Planning Services Department, 4800 Town Center Drive, Leawood, Kansas.
City of Olathe: Maps are available for inspection at the Planning Department, 100 West Santa Fe, Olathe, Kansas.
City of Overland Park: Maps are available for inspection at City Hall, 8500 Santa Fe Drive, Overland Park, Kansas.

(Catalog of Federal Domestic Assistance No. 83.100, “Flood Insurance.”)
Dated: January 29, 2002.
Robert F. Shea,
Acting Administrator, Federal Insurance and Mitigation Administration.

[FR Doc. 02-2665 Filed 2-4-02; 8:45 am]

BILLING CODE 6718-04-P